DEPARTMENT OF COMMERCE

[I.D. 052104B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Socio-economic Assessment of Marine Protected Areas Management Preferences.

Form Number(s): None.

OMB Approval Number: None.

Type of Request: Regular submission.

Burden Hours: 700.

Number of Respondents: 700.

Average Hours Per Response: 1.

Needs and Uses: Several studies have shown that the haphazard placement of traps damages hard corals and gorgonians. In addition, to physically damaging hard corals and gorgonians traps target various over-exploited reef fish species, which further threaten the health and stability of coral reef habitats. In order to protect coral reef habitats and ensure the sustainable use reef fish resources, the Caribbean Fishery Management Council (CFMC) is considering limiting the total number of traps in the fishery. The goal of the proposed survey is to gather socioeconomic information on the Caribbean (Puerto Rico, St. Thomas, St. John, and St. Croix) trap fishery to support the management and conservation efforts of the CFMC. The information collected will be used to satisfy regulatory objectives and analytical requirements, and to assist the CFMC in selecting policies that meet conservation and management goals and minimize to the extent possible any adverse economic impacts on fishery participants.

Affected Public: Business or other for-profit organizations.

Frequency: One-time survey.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number 202-395-7285, or David_Rostker@omb.eop.gov.

Dated: May 19, 2004.
Gwellnar Banks,
Management Analyst, Office of the Chief Information Officer.

[FR Doc. 04-11908 Filed 5-25-04; 8:45 am]

BILLING CODE 3510-22-S